ENVIRONMENTAL PROTECTION AGENCY

[ER-FRL-9049-8]

Environmental Impact Statements; Notice of Availability

Weekly receipt of Environmental Impact Statements filed March 2, 2020, 10 a.m. EST through March 9, 2020, 10 a.m. EST pursuant to 40 CFR 1506.9.

Responsible Agency: Office of Federal Activities, General Information 202-564-5632 or https://www.epa.gov/nepa/.

Section 309(a) of the Clean Air Act requires that EPA make public its comments on EISs issued by other Federal agencies. EPA's comment letters on EISs are available at: https://cdxnodengn.epa.gov/cdx-enepa-public/action/eis/search

EIS No. 20200063, Final, USFS, OR, Bear Creek Cluster Allotment Management Plans, Review Period Ends: 04/13/2020, Contact: Beth Peer 541-416-6463

EIS No. 20200064, Second Draft Supplemental, CHSRA, CA, Merced to Fresno Section: Central Valley Wye Revised Draft Supplemental Environmental Impact Report/Second Draft Supplemental Environmental Impact Statement, Comment Period Ends: 04/27/2020, Contact: Dan McKell 916-330-5668

EIS No. 20200065, Final, TVA, TN, Allen Fossil Plant Ash Impoundment Closure, Review Period Ends: 04/13/2020, Contact: W. Douglas White 865-632-2252

EIS No. 20200066, Final, FERC, AK, Alaska LNG Project, Review Period Ends: 04/13/2020, Contact: Office of External Affairs 866-208-3372

Amended Notice

EIS No. 20200017, Draft, USFS, WY, Snow King Mountain Resort On-Mountain Improvements, Comment Period Ends: 03/31/2020, Contact: Sean McGinness, 307-739-5415, Revision to FR Notice Published 1/31/2020; Extending the Comment Period from 3/16/2020 to 3/31/2020

EIS No. 20200026, Final, USACE, TX, Houston Ship Channel Expansion Channel Improvement Project, Review Period Ends: 04/13/2020, Contact: Harmon Brown 409-766-3837, Revision to FR Notice Published 2/7/2020; Extending the Review Period from 3/9/2020 to 4/13/2020

Dated: March 9, 2020.
Cindy S. Barger,
Director, NEPA Compliance Division, Office of Federal Activities.

[FR Doc. 2020-05091 Filed 3-12-20; 8:45 am]

BILLING CODE 6560-50-P